Proclamation 8121 of April 5, 2007

National Former Prisoner of War Recognition Day, 2007

By the President of the United States of America

A Proclamation

The men and women of the United States Armed Forces have made great sacrifices to defend our Nation. They have triumphed over brutal enemies, liberated continents, and answered the prayers of millions around the globe. On National Former Prisoner of War Recognition Day, we honor the brave individuals who put service above self and were taken captive while protecting America and advancing the cause of freedom.

Throughout our Nation's conflicts, American prisoners of war have defied ruthless enemies and endured tremendous hardships as they braved captivity. Their strength showed the power and resilience of the American spirit and the indomitable character of our men and women in uniform. Their sacrifices are a great example of courage, devotion, and love of country.

Our Nation's former prisoners of war have helped secure the priceless gift of freedom for all our citizens, and we will always be grateful to them and their families. On National Former Prisoner of War Recognition Day and throughout the year, we honor the American heroes who have been taken as prisoners of war and remember their legacy of bravery and selflessness.

NOW, THEREFORE, I, GEORGE W. BUSH, President of the United States of America, by virtue of the authority vested in me by the Constitution and laws of the United States, do hereby proclaim April 9, 2007, as National Former Prisoner of War Recognition Day. I call upon the people of the United States to join me in honoring the service and sacrifices of all American prisoners of war. I call upon Federal, State, and local government officials and private organizations to observe this day with appropriate ceremonies and activities.

IN WITNESS WHEREOF, I have hereunto set my hand this fifth day of April, in the year of our Lord two thousand seven, and of the Independence of the United States of America the two hundred and thirty-first.

[FR Doc. 07-1776

Filed 4-6-07; 8:47 am]

Billing code 3195-01-P